DEPARTMENT OF TRANSPORTATION

National Highway Traffic Safety Administration

[Docket No. NHTSA 2003-15819; Notice 2]

Mitsubishi Motors North America, Inc.; Grant of Application for Decision of Inconsequential Noncompliance

Mitsubishi Motors North America, Inc. (MMNA) has determined that approximately 25,832 vehicles equipped with new pneumatic tires failed to comply with certain provisions mandated by Federal Motor Vehicles Safety Standard (FMVSS) No. 110, “Tire selection and rims,” regarding the vehicle normal load.

Pursuant to 49 U.S.C. 30118(d) and 30120(h), MMNA has petitioned for a determination that this noncompliance is inconsequential to motor vehicle safety and had filed an appropriate report pursuant to 49 CFR Part 573, “Defect and Noncompliance Reports.”

Notice of receipt of the application was published, with a 30-day comment period, on September 15, 2003, in the Federal Register (68 FR 54047). NHTSA received no comment on this application.

Mitsubishi Motors Sales Caribbean, Inc., and DaimlerChrysler Corporation (at that time, Chrysler Corporation) imported and distributed approximately 25,832 vehicles (Mitsubishi Mirages and Chrysler Eagle Summits), during the periods of September 22, 1994, through May 9, 1996. FMVSS No. 110, “Tire selection and rims,” S4.2.2, mandates that the vehicle's normal load on each tire must not exceed the test load for the high speed performance test as specified in FMVSS No. 109, “New pneumatic tires,” paragraph S5.5. Paragraph S5.5.1 requires that the tire and wheel assembly be mounted and pressed against the test wheel with a load of 88 percent of the tire's maximum load rating as marked on the tire sidewall.

As reported by MMNA, the tires on the front axle of each affected vehicle, when loaded at the vehicle normal load, slightly exceed 88 percent of the respective tires maximum load rating. Specifically, the vehicle's normal load exceeds 88 percent of the maximum load rating by approximately 6kg, which means that the normal load is 89.5 percent of the maximum load rating. The noncompliance resulted from a running change during the 1995 model year that added a three-speed automatic transmission that increased the curb weight by 15kg resulting in a front axle load increase of 12kg and a rear axle load increase of 3kg. FMVSS No. 110 requires that the vehicle's normal load on each tire must not be greater than the high speed performance test load, which is 88 percent of the maximum load rating as stated on the tire sidewall. Compliance with FMVSS No. 110, S4.2.2, was calculated, by MMNA, based on the original curb weight (without the three-speed transmission) at the vehicle normal load.

Noting that the noncompliance occurred with vehicles manufactured prior to August of 1995, NHTSA agrees that motor vehicle safety would not be adversely impacted since the original equipment tires fitted to the affected vehicles have more than likely been replaced with a larger tire size. This is because the original equipment P145/80R13 size tire is no longer being manufactured by most tire manufacturers and has been eliminated from the Tire and Rim Association Year Book after 1998 causing its availability to drop significantly. MMNA believes, and the agency agrees, that most consumers would have likely replaced their original equipment tires with P155/80R13 size tires, which have a high enough load carrying capacity to meet the requirements of FMVSS No. 110 when fitted to the affected vehicles.

NHTSA believes that the true measure of inconsequentiality to motor vehicle safety in this case is the effect of the noncompliance on the operational safety of vehicles on which these tires are mounted. The fact that most of these vehicles have been in operation for close to nine years and likely have worn out the original equipment tires leads the agency to believe that the original noncompliance has no effect on the performance of the subject vehicles today.

In consideration of the foregoing, NHTSA has decided that the applicant has met its burden of persuasion that the noncompliance is inconsequential to motor vehicle safety. Accordingly, its application is granted and the applicant is exempted from providing the notification of the noncompliance as required by 49 U.S.C. 30118, and from remedying the noncompliance, as required by 49 U.S.C. 30120.

(Authority: 49 U.S.C. 301118, 301120; delegations of authority at 49 CFR 1.50 and 501.8).

Issued on: June 4, 2004.
Stephen R. Kratzke,
Associate Administrator for Rulemaking.

[FR Doc. 04-13055 Filed 6-8-04; 8:45 am]

BILLING CODE 4910-59-P